DEPARTMENT OF HEALTH AND HUMAN SERVICES

Administration for Children and Families

Federal Allotments to State Developmental Disabilities Councils (DDC) and Protection and Advocacy (P&A) Formula Grant Programs for Fiscal Year 2001.

AGENCY: Administration on Developmental Disabilities (ADD), Administration for Children and Families, Department of Health and Human Services.

ACTION: Notification of Fiscal Year 2001 Federal Allotments to State Developmental Disabilities Councils and Protection and Advocacy Formula Grant Programs.

SUMMARY: This notice sets forth Fiscal Year (FY) 2001 individual allotments and percentages to States administering the State Developmental Disabilities Councils and Protection and Advocacy programs, pursuant to Section 125 and Section 142 of the Developmental Disabilities Assistance and Bill of Rights Act (Act). The allotment amounts are based upon the FY 2000 Budget Request and are contingent upon congressional appropriations for FY 2001. If Congress enacts and the President approves a different appropriation amount, the allotments will be adjusted accordingly. The individual allotments will be available April 1, 2000 on the ADD homepage on the Internet: http://www.acf.dhhs.gov/programs/add/

EFFECTIVE DATE: October 1, 2000. Future notification of allotments for DDC and P&A will no longer be published in the Federal Register, but will be available on the Internet address given above by April 1st of each year.

FOR FURTHER INFORMATION CONTACT: Doris Lee, Grants Fiscal Management Specialist, Office of Management Services, Administration for Children, Youth and Families, telephone (202) 205-4626.

SUPPLEMENTARY INFORMATION: Section 125 (a)(2) of the Act requires that adjustments in the amounts of State allotments shall be made not more often than annually and that States are to be notified no less than six (6) months before the beginning of the fiscal year in which such adjustment is to take effect. In relation to the State DDC allotments, the description of service needs were reviewed in the State plans and are consistent with the results obtained from the data elements and projected formula amounts for each State (Section 125(a)(5)).

The Administration on Developmental Disabilities has updated the following data elements for issuance of Fiscal Year 2001 allotments for the Developmental Disabilities formula grant programs.

A. The number of beneficiaries in each State and Territory under the Childhood Disabilities Beneficiary Program are from Table 5.J10 of the “Annual Statistical Supplement, 1999 to the Social Security Bulletin” issued by the Social Security Administration;

B. State data on Average Per Capita Income are from Table 1—Personal Income and Per Capita Personal Income by State and Region, 1993-98 of the “Survey of Current Business,” May, 1999, issued by the Bureau of Economic Analysis, U.S. Department of Commerce; comparable data for the Territories also were obtained from the Department of Commerce September, 1999; and

C. State data on Total Population and Working Population (ages 18-64) as of July 1, 1998, are from the “Estimate of Resident Population of the U.S. by Selected Age Groups and Sex,” issued by the Bureau of the Census, U.S. Department of Commerce. Total population estimates for the Territories, as of 1997, were issued May, 1998 under press release CB98-80. The Territories working population was issued in the Bureau of Census report, “General Characteristics Report: 1980,” which is the most recent data available from the Bureau.

Table 1.—FY 2001 Allotments Administration on Developmental Disabilities
| Developmental Disabilities Councils | Percentage
Alabama | $1,280,704 | 1.947839
Alaska | 408,984 | .622029
Arizona | 864,880 | 1.315407
Arkansas | 747,603 | 1.137039
California | 5,658,558 | 8.606172
Colorado | 712,785 | 1.084084
Connecticut | 645,893 | .982347
Delaware | 408,984 | .622029
District of Columbia | 408,984 | .622029
Florida | 2,778,080 | 4.225217
Georgia | 1,612,070 | 2.451817
Hawaii | 408,984 | .622029
Idaho | 408,984 | .622029
Illinois | 2,584,071 | 3.930146
Indiana | 1,425,566 | 2.168161
Iowa | 774,177 | 1.177456
Kansas | 594,253 | .903807
Kentucky | 1,184,933 | 1.802179
Louisiana | 1,375,723 | 2.092354
Maine | 408,984 | .622029
Maryland | 901,119 | 1.370523
Massachusetts | 1,250,543 | 1.901966
Michigan | 2,293,461 | 3.488154
Minnesota | 980,322 | 1.490984
Mississippi | 912,473 | 1.387792
Missouri | 1,290,019 | 1.962006
Montana | 408,984 | .622029
Nebraska | 414,312 | .630132
Nevada | 408,984 | .622029
New Hampshire | 408,984 | .622029
New Jersey | 1,452,791 | 2.209568
New Mexico | 449,515 | .683673
New York | 4,036,228 | 6.138750
North Carolina | 1,767,777 | 2.688634
North Dakota | 408,984 | .622029
Ohio | 2,791,669 | 4.245884
Oklahoma | 887,831 | 1.350313
Oregon | 683,935 | 1.040205
Pennsylvania | 3,026,521 | 4.603074
Rhode Island | 408,984 | .622029
South Carolina | 1,030,500 | 1.567300
South Dakota | 408,984 | .622029
Tennessee | 1,404,358 | 2.135906
Texas | 4,173,299 | 6.347223
Utah | 507,501 | .771865
Vermont | 408,984 | .622029
Virginia | 1,337,203 | 2.033769
Washington | 1,037,010 | 1.577201
West Virginia | 739,342 | 1.124475
Wisconsin | 1,249,657 | 1.900619
Wyoming | 408,984 | .622029
American Samoa | 214,718 | .326567
Guam | 214,718 | .326567
Northern Mariana Islands | 214,718 | .326567
Puerto Rico | 2,308,670 | 3.511285
Virgin Islands | 214,718 | .326567
Total | 65,750,000 ¹ | 100.000000
¹ Allocations are computed based on the requirements of Section 125(a)(3)(B), Reduction of Allotment of the Act.

Table 2.—FY 2001 Allotments Administration on Development Disabilities
| Protection and advocacy | Percentage
Alabama | $465,705 | 1.690534
Alaska | 267,768 | .972012
Arizona | 388,730 | 1.411111
Arkansas | 277,337 | 1.006748
California | 2,347,035 | 8.519864
Colorado | 294,498 | 1.069044
Connecticut | 276,697 | 1.004425
Delaware | 267,768 | .972012
District of Columbia | 267,768 | .972012
Florida | 1,188,948 | 4.315945
Georgia | 653,949 | 2.373870
Hawaii | 267,768 | .972012
Idaho | 267,768 | .972012
Illinois | 951,104 | 3.452559
Indiana | 536,953 | 1.949168
Iowa | 273,978 | .994555
Kansas | 267,768 | .972012
Kentucky | 435,383 | 1.580464
Louisiana | 478,649 | 1.737522
Maine | 267,768 | .972012
Maryland | 364,046 | 1.321507
Massachusetts | 466,490 | 1.693384
Michigan | 893,221 | 3.242440
Minnesota | 378,784 | 1.375006
Mississippi | 332,243 | 1.206060
Missouri | 490,603 | 1.780915
Montana | 267,768 | .972012
Nebraska | 267,768 | .972012
Nevada | 267,768 | .972012
New Hampshire | 267,768 | .972012
New Jersey | 551,995 | 2.003772
New Mexico | 267,768 | .972012
New York | 1,423,590 | 5.167708
North Carolina | 690,481 | 2.506483
North Dakota | 267,768 | .972012
Ohio | 1,037,007 | 3.764391
Oklahoma | 329,068 | 1.194536
Oregon | 281,919 | 1.023382
Pennsylvania | 1,073,080 | 3.895338
Rhode Island | 267,768 | .972012
South Carolina | 395,715 | 1.436467
South Dakota | 267,768 | .972012
Tennessee | 525,514 | 1.907644
Texas | 1,594,404 | 5.787773
Utah | 267,768 | .972012
Vermont | 267,768 | .972012
Virginia | 543,539 | 1.973076
Washington | 413,862 | 1.502341
West Virginia | 289,650 | 1.051446
Wisconsin | 470,485 | 1.707886
Wyoming | 267,768 | .972012
American Samoa | 143,255 | .520024
Guam | 143,255 | .520024
Northern Mariana Islands | 143,255 | .520024
Puerto Rico | 897,039 | 3.256300
Virgin Islands | 143,255 | .520024
DNA People Legal |  |  | Services ² | 143,255 | .520024
Total | $27,547,800 ¹ | 100.000000 4
¹ In accordance with Public Law 104-183, Section 142(c)(5), $562,200 has been withheld to fund technical assistance. The statute provides for spending up to two percent (2%) of the amount appropriated under Section 143 for this purpose. Unused funds will be reallotted in accordance with Section 142(c)(1) of the Act.
² American Indian Consortiums are eligible to receive an allotment under Section 142(c)(1)(A)(I) of the Act.

Dated: March 13, 2000
Sue E. Swenson,
Commissioner, Administration on Developmental Disabilities.

[FR Doc. 00-7019 Filed 3-21-00; 8:45 am]

BILLING CODE 4184-01-U